ENVIRONMENTAL PROTECTION AGENCY

[FRL-9974-01-Region 2]

Proposed CERCLA Cost Recovery Settlement for the Frankfort Asbestos Superfund Site, Village of Frankfort, Herkimer County, New York

AGENCY: Environmental Protection Agency (EPA).

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with City Recycling, Inc. (“Settling Party”) for the Frankfort Asbestos Superfund Site (“Site”), located in the Village of Frankfort, Herkimer County, New York.

DATES: Comments must be submitted on or before March 8, 2018.

ADDRESSES: The proposed settlement is available for public inspection at EPA Region 2 offices at 290 Broadway, New York, New York 10007-1866. Comments should reference the Frankfort Asbestos Superfund Site, Frankfort, Herkimer County, New York, Index No. CERCLA-02-2018-2008. To request a copy of the proposed settlement agreement, please contact the EPA employee identified below.

FOR FURTHER INFORMATION CONTACT: Jocelyn Scott, Attorney, Office of Regional Counsel, New York/Caribbean Superfund Branch, U.S. Environmental Protection Agency, 290 Broadway, 17th Floor, New York, NY 10007-1866. email: scott.jocelyn@epa.gov. Telephone: 212-637-3179.

SUPPLEMENTARY INFORMATION: The Settling Party agrees to pay EPA $100,000.00 in reimbursement of EPA's past response costs paid at or in connection with the Site, plus an additional sum for interest from the date of execution by EPA through the date of payment.

The settlement includes a covenant by EPA not to sue or to take administrative action against the Settling Party pursuant to Section 107(a) of CERCLA, 42 U.S.C. 9607(a), with regard to the response costs related to the work at the Site enumerated in the settlement agreement. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Date: January 18, 2018.
Walter Mugdan,
Director, Emergency and Remedial Response Division, U.S. Environmental Protection Agency, Region 2.

[FR Doc. 2018-02330 Filed 2-5-18; 8:45 am]

BILLING CODE 6560-50-P